DEPARTMENT OF TRANSPORTATION

Federal Aviation Administration

14 CFR Part 39

[Docket No. 2001-NE-41-AD; Amendment 39-12593; AD 2002-01-02]

RIN 2120-AA64

Airworthiness Directives; Turbomeca S.A. Arrius 1A Turboshaft Engines

AGENCY: Federal Aviation Administration, DOT.

ACTION: Final rule; request for comments.

SUMMARY: This amendment adopts a new airworthiness directive (AD) that is applicable to Turbomeca S.A. Arrius 1A turboshaft engines. This action requires replacement of the 10 main fuel injectors in Arrius 1A engines with new or overhauled injectors. This amendment is prompted by routine inspections conducted in the repair workshop demonstrating that some main fuel injectors were partially or totally blocked. The actions specified in this AD are intended to prevent blocked main fuel injectors that could lead to engine flameout during engine deceleration or that could prevent the engine from obtaining the 2½ minute one engine inoperative (OEI) power.

DATES: Effective January 22, 2002.

Comments for inclusion in the Rules Docket must be received on or before March 8, 2002.

ADDRESSES: Submit comments in triplicate to the Federal Aviation Administration (FAA), New England Region, Office of the Regional Counsel, Attention: Rules Docket No. 2001-NE-41-AD, 12 New England Executive Park, Burlington, MA 01803-5299. Comments may be inspected at this location, by appointment, between 8:00 a.m. and 4:30 p.m., Monday through Friday, except Federal holidays. Comments may also be sent via the Internet using the following address: “9-ane-adcomment@faa.gov”. Comments sent via the Internet must contain the docket number in the subject line.

FOR FURTHER INFORMATION CONTACT: Robert P. McCabe, Aerospace Engineer, Boston Engine Certification Office, FAA, Engine & Propeller Directorate, 12 New England Executive Park, Burlington, MA, 01803; telephone (781) 238-7138; fax (781) 238-7199.

SUPPLEMENTARY INFORMATION: The Direction Generale De L'Aviation Civile (DGAC), which is the airworthiness authority for France, recently notified the FAA that an unsafe condition may exist on Turbomeca S.A. Arrius 1A turboshaft engines. The DGAC advises that during routine inspections in the repair workshop some main fuel injectors were discovered to be totally or partially blocked, and that this condition could cause flameouts during engine decelerations and OEI power shortfall occurrences.

Manufacturer's Service Information

Turbomeca S.A. (Group Snecma) has issued Alert Service Bulletin (ASB) No. A319 73 0071, dated January 1, 2001, that requires replacement of the 10 main fuel injectors in Arrius 1A engines with new or overhauled injectors. The DGAC classified this service bulletin as mandatory and issued AD 2000-532(A) in order to assure the airworthiness of these Turbomeca S.A. Arrius 1A turboshaft engines in France.

Bilateral Airworthiness Agreement

This engine model is manufactured in France and is type certificated for operation in the United States under the provisions of section 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

FAA's Determination of an Unsafe Condition and Required Actions

Since an unsafe condition has been identified that is likely to exist or develop on other Turbomeca S.A. Arrius 1A engines of the same type design, this AD is being issued to prevent blocked main fuel injectors that could lead to engine flameout during engine deceleration or that could prevent the engine from obtaining the 2½ minute OEI (maximum emergency) power. This AD requires replacement of the 10 main fuel injectors in Arrius 1A engines with new or overhauled injectors. Fuel injectors that have accumulated more than 1,350 hours of operation since new or last overhaul must be replaced before further flight. The actions are required to be done in accordance with the service bulletin described previously.

Immediate Adoption of This AD

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications should identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this action must submit a self-addressed, stamped postcard on which the following statement is made: “Comments to Docket Number 2001-NE-41-AD.” The postcard will be date stamped and returned to the commenter.

Regulatory Analysis

This final rule does not have federalism implications, as defined in Executive Order 13132, because it would not have a substantial direct effect on the States, on the relationship between the national government and the States, or on the distribution of power and responsibilities among the various levels of government. Accordingly, the FAA has not consulted with state authorities prior to publication of this final rule.

The FAA has determined that this regulation is an emergency regulation that must be issued immediately to correct an unsafe condition in aircraft, and is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2002-01-02 Turbomeca S.A.: Amendment 39-12593. Docket 2001-NE-41-AD.

Applicability

This airworthiness directive (AD) is applicable to Turbomeca S.A. Arrius 1A turboshaft engines installed on, but not limited to Eurocopter helicopters: Model AS355N, called the Ecureuil/Twinstar; and Model AS555UN, called the Fennic.

Note 1: This AD applies to each engine identified in the preceding applicability provision, regardless of whether it has been modified, altered, or repaired in the area subject to the requirements of this AD. For engines that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance

Compliance with this AD is required as indicated, unless already done.

To prevent blocked main fuel injectors that could lead to engine flameout during engine deceleration or that could prevent the engine from obtaining the 2-½ minute one engine inoperative (OEI) power, replace the 10 main fuel injectors in Arrius 1A engines with new or overhauled injectors using the following schedule:

Replacement Schedule

(a) Before further flight, replace any fuel injector that has accumulated more than 1,350 hours of operation since new or last overhaul.

(b) Fuel injectors that have accumulated less than 1,350 hours of operation since new or last overhaul must be replaced prior to achieving 1,350 hours of operation.

Service Documents for Reference

(c) Turbomeca S.A. (Group Snecma) Alert Service Bulletin (ASB) No. A319 73 0071, dated January 1, 2001, contains additional information concerning the replacement of these injectors.

Alternative Methods of Compliance

(d) An alternative method of compliance or adjustment of the compliance time that provides an acceptable level of safety may be used if approved by the Manager, Boston Engine Certification Office (ECO). Operators must submit their requests through an appropriate FAA Principal Maintenance Inspector, who may add comments and then send it to the Manager, Boston ECO.

Note 2: Information concerning the existence of approved alternative methods of compliance with this airworthiness directive, if any, may be obtained from the Boston ECO.

Special Flight Permits Prohibited

(e) Special flight permits are prohibited because fuel injector operation in excess of 1,350 hours is prohibited. However, operators can easily replace the fuel injectors at any location using standard maintenance tools.

Note 3: The subject of this AD is addressed in Direction Generale De L'Aviation Civile (DGAC) airworthiness directive AD Number 2000-532(A), dated December 27, 2000.

Effective Date

(f) This amendment becomes effective on January 22, 2002.

Issued in Burlington, Massachusetts, on December 28, 2001.
Robert J. Ganley,
Acting Manager, Engine and Propeller Directorate, Aircraft Certification Service.

[FR Doc. 02-199 Filed 1-4-02; 8:45 am]

BILLING CODE 4910-13-P